DEPARTMENT OF ENERGY

Western Area Power Administration

Notice of Floodplain/Wetlands Involvement for the Charlie Creek-Williston Transmission Line Fiber Optic Overhead Ground Wire Installation Project

AGENCY: Western Area Power Administration, DOE.

ACTION: Notice of floodplain/wetlands involvement.

SUMMARY: The Western Area Power Administration (Western) intends to add new fiber optic communication capabilities to the existing Charlie Creek-Williston 115-kilovolt (kV) Transmission Line in west central North Dakota. This will require rebuilding many of the existing wood pole H-frame structures to carry the additional weight. The line crosses two major drainages in the area—the Little Missouri River on lands managed by the National Park Service, and the Missouri River south of Williston, North Dakota.

Following the U.S. Department of Energy (DOE) Floodplain/Wetland Review Requirements (10 CFR part 1022), Western will prepare a floodplain assessment and will perform the proposed actions in ways that avoid or minimize potential harm to or within the affected floodplain. The floodplain assessment will be included in an Environmental Assessment being prepared by Western, under the provisions of the DOE National Environmental Policy Act Implementing Procedures (10 CFR part 1021).

DATES: Comments on the proposed floodplain action are due to the address below by May 1, 2001.

ADDRESSES: Comments should be addressed to Mr. Theodore Anderson, Environmental Specialist, Upper Great Plains Region, Western Area Power Administration, P.O. Box 35800, Billings, Montana 59107-5800, e-mail tanderso@wapa.gov.

FOR FURTHER INFORMATION CONTACT: For further information on DOE Floodplain/Wetlands Environmental Review Requirements, contact: Ms. Carol M. Borgstrom, Director, NEPA Policy and Compliance, EH-42, U.S. Department of Energy, 1000 Independence Avenue SW., Washington, DC 20585, telephone (202) 586-4600 or (800) 472-2756.

SUPPLEMENTARY INFORMATION: The Charlie Creek-Williston 115-kilovolt (kV) Transmission Line is approximately 72 miles long, approximately 50 years old, and has an existing 100-foot right-of-way. Fiber optic communications will be added by installing a new overhead ground wire with a fiber optic cable as a replacement for one of the existing overhead ground wires. The other existing overhead ground wire will be replaced with a new, conventional ground wire at the same time. To carry the added weight of the new cable, a number of transmission structure upgrades are required. A total of 514 wood poles on the existing H-frame structures will be replaced with poles that are 5 feet taller. This will prevent the heavier cable from sagging into the conductor wire. As part of the transmission line rebuild, all insulators on the line will be replaced.

Most of the line is on private land (grazing and cultivated lands), but it also crosses lands managed by the U.S. Forest Service (Little Missouri National Grasslands) and the National Park Service (Theodore Roosevelt National Park North Unit). The line crosses McKenzie and Williams counties, and will pass near Watford City, North Dakota.

The action will entail removing existing poles and reinstalling new, taller poles. Once the poles are replaced, the existing overhead ground wire will be removed and the new fiber and conventional cables installed. Along the route, splice points will also be established where the lengths of the fiber optic cable will be fused together. The splice points will be used for pulling the cable through the structures. Most ground disturbances will occur where the structures are replaced, and at the splicing and pulling sites. Access roads for the line exist and may need to be improved. There may be a need for additional access trails or roads to some structure locations. Western employees will perform this work over 3 years.

Dated: March 20, 2001
Michael S. Hacskaylo,
Administrator.

[FR Doc. 01-7745 Filed 3-28-01; 8:45 am]

BILLING CODE 6450-01-P